DEPARTMENT OF ENERGY

Federal Energy Regulatory Commission

[Docket Nos. RP01-236-008, RP00-553-011, and RPoo-481-008]

Transcontinental Gas Pipe Line Corporation; Notice of Compliance Filing

November 8, 2002.

Take notice that on October 30, 2002, Transcontinental Gas Pipe Line Corporation (Transco) tendered for filing, as part of its FERC Gas Tariff, Third Revised Volume No. 1, the revised tariff sheets listed on Appendix A to the filing.

Transco states that the purpose of this filing is to comply with the Commission's Order on Rehearing and Clarification issued on August 29, 2002 in the referenced proceeding.

Transco states that it will serve copies of the instant filing on its affected customers and interested State Commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See, 18 CFR 385.2001(a)(1)(iii) and the instructions on the Commission's Web site under the “e-Filing” link.

Magalie R. Salas,
Secretary.

[FR Doc. 02-29143 Filed 11-15-02; 8:45 am]

BILLING CODE 6717-01-P